DEPARTMENT OF TRANSPORTATION

National Highway Traffic Safety Administration

[U.S. DOT Docket Number NHTSA-2013-0046]

Reports, Forms, and Record Keeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before June 24, 2013.

ADDRESSES: You may submit comments, identified by the docket number in the heading of this document, by any of the following methods:

• Federal eRulemaking Portal: Go to http://www.regulations.gov. Follow the instructions for submitting comments on the electronic docket site by clicking on “Help” or “FAQ.”

• Hand Delivery: 1200 New Jersey Avenue SE., West Building Ground Floor, Room W12-140, between 9 a.m. and 5 p.m. Eastern Time, Monday through Friday, except Federal holidays.

• Fax: 202-493-2251.

Regardless of how you submit comments, you should mention the docket number of this document.

You may call the Docket Management Facility at 202-366-9826.

Instructions: For detailed instructions on submitting comments and additional information on the rulemaking process, see the Public Participation heading of the Supplementary Information section of this document. Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Docket: For access to the docket to read background documents or comments received, go to http://www.regulations.gov, or the street address listed above. Follow the online instructions for accessing the dockets.

FOR FURTHER INFORMATION CONTACT: Kil-Jae Hong, NHTSA, 1200 New Jersey Avenue SE., W52-232, NPO-520, Washington, DC 20590. Ms. Hong's telephone number is (202) 493-0524 and email address is kil-jae.hong@dot.gov.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)),¹ an agency must ask for public comment on the following:

¹ Available at http://www.gpo.gov/fdsys/pkg/CFR-2012-title5-vol3/pdf/CFR-2012-title5-vol3-sec1320-5.pdf (last accessed Dec. 11, 2012).

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected;

(iv) how to minimize the burden of the collection of information on those who are to respond, including the use of appropriate automated, electronic, mechanical, or other technological collection techniques or other forms of information technology, e.g. permitting electronic submission of responses.

In compliance with these requirements, NHTSA asks for public comments on the following proposed collection of information for which the agency is seeking approval from OMB:

Title: Buzzed Driving is Drunk Driving PSA Campaign Tracking Study.

OMB Control Number: Not Assigned.

Form Number: None.

Affected Public: Consumers 21+ years-old.

Requested Expiration Date of Approval: Three years from approval date.

Abstract: The National Traffic and Motor Vehicle Safety Act of 1966, Title 15 United States Code 1395, Section 106 (b), gives the Secretary of the United States Department of Transportation the authority to conduct research, testing, development, and training as authorized to be carried out by subsections of this title. The Vehicle Safety Act was subsequently re-codified under Title 49 of the U.S. Code in Chapter 301, Motor Vehicle Safety. Section 30168 of Title 49, Chapter 301, gives the Secretary authorization to conduct research, testing, development, and training to carry out this chapter.

The Buzzed Driving is Drunk Driving campaign is a public service communications campaign designed to prevent impaired driving by:

• Increasing awareness of the consequences of driving while impaired;

• Educating the public that if you are “buzzed” from drinking alcohol, you're too impaired to drive safely;

• Changing adult attitudes and intentions to drive while impaired; and

• Motivating adults to adopt and maintain anti-impaired driving behaviors.

In order to effectively achieve the objectives of the communications campaign and fulfill its statutory obligations, the National Highway Traffic Safety Administration (NHTSA) had previously conducted qualitative research to help guide the development of the campaign strategy and creative advertising that is now playing in the media. In order to understand if the communications are delivering against these objectives, the quantitative data captured in the tracking study will be used to monitor the impact of the advertising.

The tracking survey is intended to measure awareness, attitudes, intentions, and behaviors related to the objectives of the Buzzed Driving is Drunk Driving public service advertising campaign. Ongoing tracking will allow NHTSA to modify measures to reflect changes in strategy and the introduction of new advertising.

The survey for this tracking study will include questions that measure awareness, attitudes, and behaviors related to the campaign messages. The questions will be crafted to gain various perspectives on the issue of drinking and driving. The survey's key measures will include:

• Awareness of messaging about the issue and aided recognition of campaign advertisements;

• Likelihood to drive when “buzzed” or somewhat impaired; and

• Self-reported driving behavior when “buzzed” or somewhat impaired.

NHTSA is proposing to implement this data collection by using an online survey in order to facilitate the exposure to video, audio, and jpeg files in the advertising recognition section, a functionality that is not possible for a telephone survey. As a result of this need to use an online survey methodology, NHTSA is proposing to use a convenience sample: Self-selected adults 21+ who drive at least three times per week and drink alcohol at least once per month. For the purposes of this study, NHTSA believes that it is sufficient that the sample be a convenience sample as long as it is diverse in terms of gender, race/ethnicity, income, age, and region, and quotas will be implemented to ensure this diversity.

Because the study is not a probability-based sample, there is no statistical basis to drive unbiased estimates representative of the target population or to estimate sampling error. However, NHTSA believes that the benefits offered by an online survey, including the ability to present respondents with the campaign advertisements, outweigh the disadvantage of potential respondent bias that rises from using a convenience sample.

NHTSA understands that this kind of information has already been collected from consumers through past studies and has worked with other agencies and third-party partners to ensure all questioning is relevant, useful, and puts no undue burden on respondents. What differentiates this survey from any other information collection is the ability to link advertising awareness with attitudinal and behavioral metrics. NHTSA's primary interest is attempting to understand recognition of the advertising campaign and to assess any impact that the public service announcements (PSAs) from this campaign may have upon attitudes and behaviors towards impaired driving, which is an area that previous research has not covered.

Estimated Annual Burden: 325 hours.

Number of Respondents: 1,300.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents.

Public Participation

How do I prepare and submit comments?

Your comments must be written and in English. To ensure that your comments are filed correctly in the Docket, please include the docket number of this document in your comments. Your comments must not be more than 15 pages long (see 49 CFR 553.21). We established this limit to encourage you to write your primary comments in a concise fashion. However, you may attach necessary additional documents to your comments. There is no limit on the length of the attachments.

If you are submitting comments in hard copy, please submit two copies of your comments, including the attachments, to DOT's Docket Management at the address given under ADDRESSES.

You may also submit your comments to the docket electronically by logging onto http://www.regulations.gov. Click on “Help” at the top of the screen to obtain instructions for filing the document electronically.

How can I be sure that my comments were received?

If you wish DOT's Docket Management to notify you upon its receipt of your comments, enclose a self-addressed, stamped postcard in the envelope containing your comments. Upon receiving your comments, Docket Management will return the postcard by mail.

How do I submit confidential business information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation (49 CFR part 512).

Will the Agency consider late comments?

We will consider all comments that Docket Management receives before the close of business on the comment closing date indicated above under DATES. To the extent possible, we also will consider comments that Docket Management receives after that date. If Docket Management receives a comment too late for us to consider it, we will consider that comment as an informal suggestion for future rulemaking action.

How can I read the comments submitted by other people?

You may read the comments received by Docket Management at the address given under ADDRESSES. The hours of the Docket are indicated above in the same location. You also may see the comments on the Internet. To read the comments on the Internet, go to http://www.regulations.gov, and follow the instructions for accessing the Docket.

Please note that even after the comment closing date, we will continue to file relevant information in the Docket as it becomes available. Further, some people may submit late comments. Accordingly, we recommend that you periodically check the Docket for new material.

Gregory A. Walter,
Senior Associate Administrator, Policy and Operations.

[FR Doc. 2013-09575 Filed 4-22-13; 8:45 am]

BILLING CODE 4910-59-P